AFRICAN DEVELOPMENT FOUNDATION

Sunshine Act Meeting; Board of Directors

TIME: 11:00 am-2:30 pm.

PLACE: ADF Headquarters.

DATE: Tuesday, January 29, 2002.

STATUS: Open.

Agenda

11:00 am-11:30 am—Chairman's Report

11:30 am-12:30 pm—President's Report

12:30 pm-1:00 pm—Lunch

1:00 pm-2:30 pm—Executive Session (Closed)

2:30 pm—Adjournment

If you have any questions or comments, please direct them to Doris Martin, General Counsel, who can be reached at (202) 673-3916.

Nathaniel Fields,
President.

[FR Doc. 02-1281 Filed 1-14-02; 3:50 pm]

BILLING CODE 6117-01-P